FEDERAL ELECTION COMMISSION

Sunshine Act Meetings

AGENCY: Federal Election Commission.

DATE AND TIME: Thursday, October 18, 2012 At 10:00 a.m.

PLACE: 999 E Street NW., Washington, DC (Ninth Floor).

STATUS: This meeting will be open to the public.

ITEMS TO BE DISCUSSED:

Correction and Approval of the Minutes for the Meeting of October 4, 2012

Audit Division Recommendation Memorandum on the Minnesota Democratic-Farmer-Labor Party (A09-08)

Audit Division Recommendation Memorandum on Rightmarch.com PAC, Inc. (A09-25)

Audit Division Recommendation Memorandum on Friends of Sharron Angle (FOSA) (A11-09)

Proposed Final Audit Report on the Los Angeles County Democratic Central Committee (A09-07)

Notice of Availability—Petition for Rulemaking on Electioneering Communications Reporting filed by the Center for Individual Freedom

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-25492 Filed 10-12-12; 11:15 am]

BILLING CODE 6715-01-P